DEPARTMENT OF JUSTICE

Drug Enforcement Administration

Importer of Controlled Substances; Notice of Registration

By Notice dated April 29, 2003 and published in the Federal Register on May 29, 2003, (68 FR 32088), Johnson Matthey, Inc., Pharmaceutical Materials, 2003 Nolte Drive West Deptford, New Jersey, 08066, made application by renewal to the Drug Enforcement Administration (DEA) to be registered as an importer of Phenylacetone (8501), a basic class of controlled substance listed in Schedule II.

The firm plans to import Phenylacetone for conversion to amphetamine base to sell in bulk to its customers.

No comments or objections have been received. DEA has considered the factors in Title 21, United States Code, Section 823(a) and determined that the registration of Johnson Matthey, Inc., to import the listed controlled substances is consistent with the public interest and with United States obligations under international treaties, conventions, or protocols in effect on May 1, 1971, at this time.

DEA has investigated Johnson Matthey, Inc., on a regular basis to ensure that the company's continued registration is consistent with the public interest. This investigation included inspection and testing of the company's physical security systems, verification of the company's compliance with state and local laws, and a review of the company's background and history. Therefore, pursuant to Section 1008(a) of the Controlled Substances Import and Export Act and in accordance with Title 21, Code of Federal Regulations, Section 3101.34, the above firm is granted registration as an importer of the basic class of controlled substance listed above.

Dated: August 19, 2003.
Laura M. Nagel,
Deputy Assistant Administrator, Office of Diversion Control, Drug Enforcement Administration.

[FR Doc. 03-22326 Filed 8-29-03; 8:45 am]

BILLING CODE 4410-09-M